DEPARTMENT OF COMMERCE

National Oceanic and Atmospheric Administration

[I.D. 040300F]

Western Pacific Fishery Management Council; Public Meeting

AGENCY: National Marine Fisheries Service (NMFS), National Oceanic and Atmospheric Administration (NOAA), Commerce.

ACTION: Notice of public meeting.

SUMMARY: The Western Pacific Fishery Management Council's (Council) Pelagics Plan Team (PPT) members will hold a meeting.

DATES: The meeting will be held May 2, 2000 through May 4, 2000, from 8:30 a.m. to 5:00 p.m. each day.

ADDRESSES: The meeting will be held at the Council office, 1164 Bishop St., Suite 1400, Honolulu, HI 96813.

FOR FURTHER INFORMATION CONTACT: Kitty M. Simonds, Executive Director; telephone: 808-522-8220.

SUPPLEMENTARY INFORMATION: The PPT meeting will discuss and may make recommendations to the Council on the following agenda items:

1. Pelagic fisheries annual report modules;

2. 1st quarter 2000 Hawaii and American Samoa longline fishery report;

3. Results of tagging of yellowfin and bigeye in Hawaii;

4. Shark fishery management;

5. Report of Recreational Fisheries Data Task Force;

6. Turtle management and recent litigation;

7. Bycatch categories;

8. National Plan of Action-Fishing Capacity;

9. Marine debris;

10. Area closure for large pelagic fishing vessels around the islands of American Samoa;

11. Managing seabird-longline fishery interactions;

12. 6th Multi-lateral High Level Conference;

13. Other international fishery issues;

14. Review of Pelagics Advisory Panel recommendations; and

15. Other business as required.

Although non-emergency issues not contained in this agenda may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Kitty M. Simonds, 808-522-8220 (voice) or 808-522-8226 (fax), at least 5 days prior to meeting date.

Dated: April 4, 2000.
Bruce C. Morehead,
Acting Director, Office of Sustainable Fisheries, National Marine Fisheries Service.

[FR Doc. 00-8871 Filed 4-10-00; 8:45 am]

BILLING CODE 3510-22-F